DEPARTMENT OF LABOR

Employment and Training Administration

[TA-W-71,912]

Philips Products, Inc., Clarksville, TX; Notice of Termination of Investigation

Pursuant to Section 223 of the Trade Act of 1974, as amended, an investigation was initiated in response to a petition filed on August 4, 2009, by a company official on behalf of workers of Philips Products, Inc., Clarksville, Texas.

The petitioner has requested that the petition be withdrawn. Consequently, the investigation has been terminated.

Signed at Washington, DC this 3rd day of September, 2009.
Elliott S. Kushner,
Certifying Officer, Division of Trade Adjustment Assistance.

[FR Doc. E9-29179 Filed 12-7-09; 8:45 am]

BILLING CODE 4510-FN-P